DEPARTMENT OF TRANSPORTATION

Surface Transportation Board

[STB Ex Parte No. 670]

Establishment of a Rail Energy Transportation Advisory Committee

AGENCY: Surface Transportation Board.

ACTION: Notice of membership of Rail Energy Transportation Advisory.

SUMMARY: The Surface Transportation Board (Board) hereby gives notice of the membership of the Rail Energy Transportation Advisory Committee.

FOR FURTHER INFORMATION, CONTACT: Scott M. Zimmerman at 202-245-0202. [Assistance for the hearing impaired is available through the Federal Information Relay Service (FIRS) at 1-800-877-8339.]

SUPPLEMENTARY INFORMATION: By a decision served on March 9, 2007, the Board announced its proposal to establish a Rail Energy Transportation Advisory Committee (RETAC) and solicited public comment on the advisability of establishing such a committee, the size and composition of the committee, and the scope of its mandate. Based on a review of the comments received and consultation with the General Services Administration, the Board, in a decision served July 17, 2007, announced that it is establishing RETAC and developed a charter to govern its operation. RETAC will provide advice and guidance to the Board, and serve as a forum for discussion of emerging issues regarding the transportation by rail of energy resources, particularly, but not necessarily limited to, coal, ethanol, and other biofuels.

In its July 2007 decision, the Board also requested suggestions for candidates for membership on RETAC. The Board stated that RETAC will be balanced and representative of interested and affected parties, and will consist of not less than: 5 representatives from the Class I railroads, 3 representatives from Class II and III railroads, 3 representatives from coal producers, 5 representatives from electric utilities (including at least one rural electric cooperative and one state-or municipally-owned utility), 4 representatives from biofuel refiners, processors, or distributors, or biofuel feedstock growers or providers, and 2 representatives from private car owners, car lessors, or car manufacturers. RETAC may also include up to 3 members with relevant experience but not necessarily affiliated with one of the aforementioned industries or sectors. The Chairman of the Board may invite representatives from the U.S. Departments of Agriculture, Energy and Transportation and the Federal Energy Regulatory Commission to serve on RETAC in advisory capacities as ex officio (non-voting) members, and the three members of the Board shall serve as ex officio members of the Committee as well.

Accordingly, attached to this decision is a list of the candidates who, in accordance with the RETAC charter, have been selected by the Chairman with a concurrence of a majority of the Board to serve as members of RETAC for the first 2-year term.

This action will not significantly affect either the quality of the human environment or the conservation of energy resources.

Authority: 49 U.S.C. 721, 49 U.S.C. 11101; 49 U.S.C. 11121.

Decided: September 21, 2007.
By the Board, Vernon A. Williams, Secretary.
Vernon A. Williams,
Secretary.

Appendix—Surface Transportation Board Rail Energy Transportation Advisory Committee Members

Class I Railroads

Stevan Bobb, Group Vice President—Coal, BNSF Railway Company

Paul Hammes, Vice President and General Manager—Agricultural Products, Union Pacific Railroad Company

Henry Rupert, Assistant Vice President—Utility North, CSX Transportation, Inc.

Darin Selby, Assistant Vice President—Coal Sales and Marketing, Kansas City Southern Railway Company

Alan Shaw, Senior Director of Coal Transportation, Norfolk Southern Railway Company

Class II and III Railroads

Edward McKechnie, Chief Commercial Officer, WATCO Companies

David Rohal, Vice President, RailAmerica, Inc.

Daniel Ray Sabin, President, Iowa Northern Railway Company

Coal Producers

John Eaves, President and COO, Arch Coal, Inc.

Betsy Monseu, Vice President, Transportation, Foundation Energy Sales, Inc.

Michael Rayphole, Vice President—Sales and Western Transportation, COALSALES, LLC

Electric Utilities

William Berg, CEO, Dairyland Power Cooperative

W. Paul Bowers, President, Southern Company Generation

C. Joseph Hopf, President, PPL EnergyPlus, LLC

Richard Kelly, Chairman, President, and CEO, XCEL Energy Inc.

Dan Kuehn, Executive Manager, Wholesale Power Services, Lower Colorado River Authority

Biofuel Refiners, Producers, Distributors, or Feedstock Providers

Daryl Haack, Corn and soybean farmer, Primghar, Iowa

Mark Huston, Director, North American Transportation, Louis Dreyfus Commodities

James Redding, Vice President, Aventine Renewable Energy, Inc.

Darrell Wallace, Vice President Transportation Commodities Group, Bunge North America

Private Car Owners, Car Lessors or Car Manufacturers

Robert Hulick, Senior Vice President Business Development, TrinityRail

Jay Wileman, President and CEO, G.E. Equipment Services—Rail Services

Other

James Brunkenhoefer, National Legislative Director, United Transportation Union

[FR Doc. E7-18938 Filed 9-25-07; 8:45 am]

BILLING CODE 4915-01-P